DEPARTMENT OF DEFENSE

Office of the Secretary

Administrative Suspension of Department of Defense Federal Advisory Committee

AGENCY: Department of Defense.

ACTION: Administrative suspension of Federal Advisory Committee.

SUMMARY: The Department of Defense (DoD) is publishing this notice to announce that it is administratively suspending the charter for the Lake Eufaula Advisory Committee (“the Committee”).

FOR FURTHER INFORMATION CONTACT: Jim Freeman, Advisory Committee Management Officer for the Department of Defense, 703-692-5952.

SUPPLEMENTARY INFORMATION: The DoD, pursuant to section 3133(b)(1) of the Water Resources Development Act of 2007 (“the 2007 WRDA”) (Pub. L. 110-114) and in accordance with the Federal Advisory Committee Act (5 U.S.C., Appendix), established the Committee on August 28, 2015. After careful consideration, the DoD has determined that the Committee's stated objectives have been accomplished and, therefore, the DoD is administratively suspending the Committee pending rescission of section 3133(b) of the 2007 WRDA. Information concerning the Committee, to include contact information for the Committee's Designated Federal Officer, can be found at https://gsageo.force.com/FACA/FACAPublicPage.

Dated: November 7, 2018.
Aaron T. Siegel,
Alternate OSD Federal Register Liaison Officer, Department of Defense.

[FR Doc. 2018-24742 Filed 11-13-18; 8:45 am]

BILLING CODE 5001-06-P